FEDERAL TRADE COMMISSION

16 CFR Part 305

Sample Labels

CFR Correction

In Title 16 of the Code of Federal Regulations, parts 0 to 999, revised as of January 1, 2004, part 305 is corrected by:

1. Replacing Sample Label 3 on page 311 with Sample Label 3 on page 306, and adding the following Prototype Label 3 in place of Sample Label 3 on page 306, and

2. Replacing Sample Label 4 on page 312 with Sample Label 4 on page 307, and adding the following Prototype Label 4 on page 307.

PART 305—RULE CONCERNING DISCLOSURES REGARDING ENERGY CONSUMPTION AND WATER USE OF CERTAIN HOME APPLIANCES AND OTHER PRODUCTS REQUIRED UNDER THE ENERGY POLICY AND CONSERVATION ACT (``APPLIANCE LABELING RULE'')

APPENDIX l—SAMPLE LABELS

* * * * *

[FR Doc. 04-55518 Filed 9-10-04; 8:45 am]

BILLING CODE 1505-01-D